DEPARTMENT OF HEALTH AND HUMAN SERVICES

National Institutes of Health

Notice of Establishment; Pursuant to the Federal Advisory Committee Act, as Amended (5 U.S.C. Appendix 2), the Director, National Institutes of Health (NIH), Announces the Establishment of the Council of Councils (Council)

The Council shall provide advice and recommendations to the Director, NIH, or other appropriate delegated officials on matters related to the policies and activities of the Division of Program Coordination, Planning, and Strategic Initiatives including making recommendations with respect to the conduct and support of research that represents important areas of emerging scientific opportunities, rising public health challenges, or knowledge gaps that deserve special emphasis and would benefit from conducting or supporting additional research that involves collaboration between two or more national research institutes or national centers, or would otherwise benefit from strategic coordination and planning.

Duration of this committee is two years from the date the Charter is filed.

Dated: March 29, 2007.
Elias A. Zerhouni,
Director, National Institutes of Health.

[FR Doc. 07-1730 Filed 4-6-07; 8:45 am]

BILLING CODE 4140-01-M